DEPARTMENT OF ENERGY

Biomass Research and Development Technical Advisory Committee; Meeting

AGENCY: Energy Efficiency and Renewable Energy, Department of Energy.

ACTION: Notice of open meeting.

SUMMARY: This notice announces an open meeting of the Biomass Research and Development Technical Advisory Committee. The Federal Advisory Committee Act (Pub. L. 92-463, 86 Stat. 770) requires that agencies publish these notices in the Federal Register to allow for public participation.

DATES: Dates and Times:

March 5, 2015 8:30 a.m.-5:30 p.m.

March 6, 2015 8:30 a.m.-1:00 p.m.

ADDRESSES: Marriott Wardman Park, 2660 Woodley Rd. NW., Washington, DC 20008.

FOR FURTHER INFORMATION CONTACT: Elliott Levine, Designated Federal Officer, Office of Energy Efficiency and Renewable Energy, U.S. Department of Energy, 1000 Independence Avenue SW., Washington, DC 20585; (202) 586-1476; Email: Elliott.Levine@ee.doe.gov and Roy Tiley at (410) 997-7778 ext. 220; Email: rtiley@bcs-hq.com.

SUPPLEMENTARY INFORMATION: Purpose of Board: The Committee was established by the Biomass R&D Act of 2000 (Biomass Act), and was subsequently re-authorized in the Agricultural Act of 2014. The Committee provides advice and recommendations to the Secretary of Energy and the Secretary of Agriculture that promote research and development leading to the production of biobased fuels and biobased products.

Tentative Agenda: Agenda will include the following:

• Update on USDA Biomass R&D Activities

• Update on DOE Biomass R&D Activities

• Update on the Biomass Research and Development Initiative

• Update on the DOE Bioenergy Technologies Office upcoming Funding Opportunity Announcements

• Committee Plan for 2015

Public Participation: In keeping with procedures, members of the public are welcome to observe the business of the Biomass Research and Development Technical Advisory Committee. To attend the meeting and/or to make oral statements regarding any of the items on the agenda, you must contact Elliott Levine at 202-586-1476; Email: Elliott.Levine@ee.doe.gov and Roy Tiley at (410) 997-7778 ext. 220; Email: rtiley@bcs-hq.com at least 5 business days prior to the meeting. Members of the public will be heard in the order in which they sign up at the beginning of the meeting. Reasonable provision will be made to include the scheduled oral statements on the agenda. The Co-chairs of the Committee will make every effort to hear the views of all interested parties. If you would like to file a written statement with the Committee, you may do so either before or after the meeting. The Co-chairs will conduct the meeting to facilitate the orderly conduct of business.

Minutes: The minutes of the meeting will be available within 60 days for public review and copying at http://biomassboard.gov/committee/meetings.html.

Issued at Washington, DC, on February 10, 2015.
LaTanya R. Butler,
Deputy Committee Management Officer.

[FR Doc. 2015-03133 Filed 2-13-15; 8:45 am]

BILLING CODE 6450-01-P